CONSUMER PRODUCT SAFETY COMMISSION

16 CFR Part 1232

[Docket No. CPSC-2015-0029]

Revisions to Safety Standard for Children's Folding Chair and Stools; Correction

AGENCY: Consumer Product Safety Commission.

ACTION: Correcting amendment.

SUMMARY: On April 1, 2020, the Consumer Product Safety Commission (Commission or CPSC) issued a direct final rule revising CPSC's mandatory standard for children's folding chairs and stools to incorporate by reference the most recent version of the applicable ASTM standard. That document contained a CPSC telephone number that is now inactive. To ensure that the public will be able to contact CPSC, in this document, we provide a correct telephone number and add an email address, which will provide the public several ways to contact CPSC, even during the COVID-19 pandemic.

DATES: Effective on July 8, 2020.

FOR FURTHER INFORMATION CONTACT: Alberta E. Mills, Division of the Secretariat, U.S. Consumer Product Safety Commission, 4330 East West Highway, Bethesda, MD 20814; telephone: 301-504-7479; email: cpsc-os@cpsc.gov.

SUPPLEMENTARY INFORMATION: The Commission is correcting an error in the direct final rule, Revisions to Safety Standard for Children's Chairs and Stools, 16 CFR part 1232, which published in the Federal Register on April 1, 2020. 85 FR 18111. In § 1232.2, this document corrects the CPSC telephone number to 301-504-7479 and adds an email address to provide another contact option to reach the agency's Secretary: cpsc-os@cpsc.gov. This document does not make any substantive changes to the final rule. We are making these corrections to avoid possible confusion and to provide the public several ways to contact CPSC, even during the COVID-19 pandemic.

List of Subjects in 16 CFR Part 1232

Consumer protection, Imports, Infants and children, Law enforcement, and Toys.

Accordingly, 16 CFR part 1232 is corrected by making the following correcting amendment:

PART 1232—SAFETY STANDARD FOR CHILDREN'S FOLDING CHAIRS AND STOOLS

1. The authority citation for part 1232 continues to read as follows:

Authority: Sec. 104, Pub. L. 110-314, 122 Stat. 3016 (15 U.S.C. 2056a); Sec 3, Pub. L. 112-28, 125 Stat. 273.

§ 1232.2 [Amended]

2. Amend § 1232.2 by removing the telephone number “301-504-7923,” in the fifth sentence, and adding telephone number “301-504-7479, email: cpsc-os@cpsc.gov,” in its place.

Alberta E. Mills,
Secretary, U.S. Consumer Product Safety Commission.

[FR Doc. 2020-13349 Filed 7-7-20; 8:45 am]

BILLING CODE 6355-01-P